DEPARTMENT OF TRANSPORTATION

Federal Motor Carrier Safety Administration

[Docket No. FMCSA-2006-25756]

Commercial Driver's License (CDL) Standards: Granting of Exemption; Volvo Trucks North America

AGENCY: Federal Motor Carrier Safety Administration (FMCSA), DOT.

ACTION: Notice of final disposition; granting of application for exemption.

SUMMARY: FMCSA announces its decision to grant Volvo Trucks North America, Inc.'s (Volvo) application for exemption to enable one of its drivers to test-drive commercial motor vehicles (CMV) in the United States without a commercial driver's license (CDL) issued by one of the States. Volvo asserts that the exemption is necessary to support a field test to meet future air quality standards and to test-drive Volvo prototype CMVs. Volvo's driver holds a valid CDL issued in Sweden but lacks the U.S. residency necessary to obtain a CDL issued by one of the States. FMCSA believes the knowledge and skills testing and training program that drivers must undergo to obtain a Swedish CDL ensure that Volvo's driver will achieve a level of safety that is equivalent to, or greater than, the level of safety achieved without the exemption.

DATES: This exemption is effective June 22, 2010 and expires June 22, 2012.

FOR FURTHER INFORMATION CONTACT: Mr. Robert Schultz, Driver and Carrier Operations Division, Office of Bus and Truck Standards and Operations, MC-PSD, Federal Motor Carrier Safety Administration, 1200 New Jersey Avenue, SE., Washington, DC 20590. Telephone: 202-366-4325. E-mail: MCPSD@dot.gov.

SUPPLEMENTARY INFORMATION:

Background

Under 49 U.S.C. 31315 and 31136(e), FMCSA may grant an exemption from the CDL requirements in 49 CFR 383.23 for a 2-year period if it finds “* * * such exemption would likely achieve a level of safety that is equivalent to, or greater than, the level that would be achieved absent such exemption* * *” (49 CFR 381.305 (a)). FMCSA has evaluated Volvo's application on its merits and decided to grant exemption to Volvo's field test engineer, Edvard Lundgren, for a 2-year period.

Volvo's Application for Exemption

Volvo applied for exemption from the 49 CFR 383.23 requirement that the operator of a CMV obtain a CDL issued by one of the States. Section 383.3 of the Federal Motor Carrier Safety Regulations (FMCSRs) requires States to abide by the standards of 49 CFR part 383 when issuing CDLs. Part 383 requires applicants for CDLs to be residents of the State to which they make application. The Volvo driver for whom this exemption is sought is a citizen and resident of Sweden; therefore, he cannot apply for a CDL in any State of the United States. A copy of the Volvo request for exemption from section 383.23 is in the docket identified at the beginning of this notice.

This exemption enables Edvard Lundgren to test-drive, on U.S. highways, Volvo CMVs that are assembled, sold or primarily used in the U.S. Volvo currently employs this driver in Sweden, and wants him to be able to test-drive these Volvo prototype CMVs in “real world” environments at and near its test site in Phoenix, Arizona. Edvard Lundgren was required to satisfy strict CDL testing standards in Sweden to obtain a CDL. He is a highly trained, experienced CMV operator whose Swedish driving record reflects no violations of law. Volvo believes that Lundgren's driving under this exemption will maintain a level of safety equivalent to the level of safety that would be obtained absent the exemption.

Method To Ensure an Equivalent or Greater Level of Safety

Drivers applying for a Swedish-issued CDL must undergo a training program and pass knowledge and skills tests. Volvo believes these prerequisites ensure that exemption for this driver will provide a level of safety that is equivalent to, or greater than, the level of safety obtained by complying with the U.S. CDL requirements. FMCSA has previously determined that the process for obtaining a Swedish-issued CDL adequately assesses the driver's ability to operate CMVs in the U.S. safely. Therefore, the process for obtaining a Swedish-issued CDL is considered to be comparable to, or as effective as, the requirements of 49 CFR part 383.

Comments

The Agency received no response to its request for public comments published in the Federal Register on February 23, 2010 (75 FR 8181).

Terms and Conditions of the Exemption

Based upon its evaluation of the Volvo application, FMCSA grants an exemption from the CDL requirement of 49 CFR 383.23 to allow Volvo's driver, Edvard Lundgren, to test-drive CMVs within the United States, subject to the following terms and conditions: (1) That this driver is subject to the drug and alcohol regulations of 49 CFR part 382, including testing, (2) that this driver is subject to the same driver disqualification rules under 49 CFR parts 383 and 391 that apply to other CMV drivers in the U.S., (3) that this driver keeps a copy of the exemption on the vehicle at all times, (4) that Volvo notifies FMCSA in writing of any accident, as defined in 49 CFR 390.5, involving this driver, and (5) that Volvo notifies FMCSA in writing if this driver is convicted of a disqualifying offense identified in sections 383.51 or 391.15 of the FMCSRs.

In accordance with 49 U.S.C. 31315 and 31136(e), the exemption will be valid for 2 years unless earlier revoked by the FMCSA. The exemption will be revoked if: (1) The Volvo driver fails to comply with the terms and conditions of the exemption, (2) the exemption results in a lower level of safety than was maintained before it was granted or (3) the exemption becomes inconsistent with the goals and objectives of 49 U.S.C. 31315 and 31136.

Issued on: June 11, 2010.
Larry W. Minor,
Associate Administrator for Policy and Program Development.

[FR Doc. 2010-15077 Filed 6-21-10; 8:45 am]

BILLING CODE 4910-EX-P